DEPARTMENT OF TRANSPORTATION

Federal Transit Administration

Limitation on Claims Against Proposed Public Transportation Projects

AGENCY: Federal Transit Administration (FTA), DOT.

ACTION: Notice.

SUMMARY: This notice announces a final environmental action taken by the Federal Transit Administration (FTA) for a project in Hudson County, New Jersey. The purpose of this notice is to announce publicly the environmental decision by FTA on the subject project and to activate the limitation on any claims that may challenge this final environmental action.

DATES: By this notice, FTA is advising the public of final agency actions subject to Section 139(l) of Title 23, United States Code (U.S.C.). A claim seeking judicial review of FTA actions announced herein for the listed public transportation projects will be barred unless the claim is filed on or before January 19, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE., Washington, DC 20590. Office hours are from 9:00 a.m. to 5:00 p.m., Monday through Friday, except Federal holidays.

SUPPLEMENTARY INFORMATION: Notice is hereby given that FTA has taken final agency action by issuing a certain approval for the public transportation project listed below. The action on the project, as well as the laws under which such action was taken, is described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and action that are the subject of this notice follows:

Project name and location: Portal Bridge Capacity Enhancement Project, Hudson County, New Jersey. Project Sponsor: New Jersey Transit Corporation. Project description: This project consists of the demolition of the 100-year old moveable swing-span two-track Portal Bridge between the Town of Kearny and the Town of Secaucus, and its replacement with two new bridges: a northern fixed two-track bridge and a southern fixed two-track bridge. The existing Portal Bridge experiences frequent mechanical and operational failures which pose reliability concerns, capacity constraints, operational inflexibility, and commuter delays along the Northeast Corridor. Additionally, the bridge's low vertical clearance conflicts with maritime uses. By replacing the movable two-track bridge with two fixed two-track bridges at higher elevations, this project will increase reliability and operational flexibility, eliminate capacity constraints, reduce commuter delays, and support additional maritime uses along the Northeast Corridor. In 2008, the Federal Railroad Administration (FRA) completed an Environmental Impact Statement (EIS) for this project; FTA was a cooperating agency. FRA subsequently issued a Record of Decision (ROD) and completed three re-evaluations in 2010, 2011, and 2016. FTA has reviewed the environmental record, and in accordance with 40 CFR 1506.3 and 23 U.S.C. 139, FTA is issuing a ROD which adopts FRA's EIS. Final agency actions: Section 4(f) determination (included in the EIS, dated December 23, 2008), an amendment to the Section 106 Memorandum of Agreement dated July 25, 2017 which adds FTA as a signatory, project-level air quality conformity, and a ROD dated July 25, 2017. Supporting documentation: EIS with ROD dated December 23, 2008, Re-evaluation dated May 2010; Re-evaluation dated January 2011; and Re-evaluation dated August 2016.

Lucy Garliauskas,
Associate Administrator Planning and Environment.

[FR Doc. 2017-17723 Filed 8-21-17; 8:45 am]

BILLING CODE 4910-57-P